Presidential Determination No. 2024-05 of June 24, 2024

Designation of Kenya as a Major Non-NATO Ally

Memorandum for the Secretary of State

By the authority vested in me as President by the Constitution and the laws of the United States of America, including section 517 of the Foreign Assistance Act of 1961, as amended (22 U.S.C. 2321k) (the “Act”), I hereby designate Kenya as a Major Non-NATO Ally of the United States for the purposes of the Act and the Arms Export Control Act (22 U.S.C. 2751 et seq.).

You are authorized and directed to publish this determination in the Federal Register.

THE WHITE HOUSE,

Washington, June 24, 2024

[FR Doc. 2024-15482

Filed 7-11-24; 8:45 am]

Billing code 4710-10-P